DEPARTMENT OF HEALTH AND HUMAN SERVICES

Centers for Disease Control and Prevention

[Program Announcement 01031]

Notice of Availability of Funds; Resident Postdoctoral Research Associates Program in Microbiology

A. Purpose

The Centers for Disease Control and Prevention (CDC) announces the availability of fiscal year (FY) 2001 funds for a cooperative agreement program for the Resident Postdoctoral Research Associates Program in Microbiology. This program addresses the “Healthy People 2010” focus area of Immunization and Infectious Diseases. For additional information on “Healthy People 2010” visit the internet site http://www.health.gov/healthypeople.

The purpose of the program is to assist in a Resident Postdoctoral Research Associates Program in Microbiology. The program will continue to emphasize microbiology related to infectious disease prevention and control, with a particular emphasis given to studies at the molecular level.

Areas of investigation may include viral and rickettsial infections, nosocomial infections, acquired immunodeficiency syndrome, vector-borne infectious diseases, respiratory and food-borne bacterial diseases, sexually transmitted diseases, parasitic diseases, and other diseases or conditions relevant to the disciplines of bacteriology, virology, parasitology, medical entomology, mycology, immunology, and pathology. The recipient shall provide support for postdoctoral scientists of unusual ability and promise or proven achievement by giving them an opportunity to conduct applied and operational research on significant public health problems identified with these research interests. Associateships should be for two-year periods.

B. Eligible Applicants

Assistance will be provided only to public or private nonprofit scientific organizations. Eligible applicants must be national in scope, devoted to scientific pursuits in all areas of microbiology that relate to infectious diseases, including general, clinical, medical, environmental, animal, virology, molecular microbiology, immunology and medical technology. Applicants should have experience in administering postdoctoral training programs in medical microbiology and public health microbiology which are designed to assist associates conducting microbiologic research to solve medical and public health problems.

Note: Public Law 104-65 states that an organization, described in section 501(c)(4) of the Internal Revenue Code of 1986, that engages in lobbying activities is not eligible to receive Federal funds constituting an award, grant, cooperative agreement, contract, loan, or any other form.

C. Availability of Funds

Approximately $950,000 is available in FY 2001 to fund one award. It is expected that the award will begin on or about September 30, 2001, and will be made for a 12-month budget period within a project period of up to five years. The funding estimate may change.

Continuation awards within an approved project period will be made on the basis of satisfactory progress as evidenced by required reports and the availability of funds.

D. Program Requirements

In conducting activities to achieve the purpose of this program, the recipient will be responsible for the activities under 1. (Recipient Activities), and CDC will be responsible for the activities listed under 2. (CDC Activities).

1. Recipient Activities

a. Develop and conduct a Resident Postdoctoral Research Associates Program in Microbiology to support development of new approaches, methodologies, and knowledge in infectious disease prevention and control.

b. Identify specific research opportunities from descriptions provided by CDC.

c. Establish program policies/procedures for application and selection (e.g., establish applicant eligibility criteria).

d. Develop announcements/advertisements and an application package describing the program, listing research opportunities, and providing application instructions. Widely distribute the announcements and application package with the objective of soliciting applications from qualified individuals throughout the United States. Contribute to the racial and gender diversity of the program by assuring a wide distribution of the materials among eligible women and minority microbiologists.

e. Develop a competitive associate application review and approval process. Based on the review process, select applicants to be awarded a two-year associateships.

f. Provide administrative support to associates during their tenure, including the payment of a stipend (consistent with PHS levels identified by CDC Policy), enrollment in a health insurance plan, and reimbursement of expenses for professional travel. Administer the program such that associates will not be employees of either recipient organization or CDC.

g. Establish associate publication/presentation policies which encourage the dissemination of associate research results.

h. Develop a plan for monitoring and evaluating the progress of associates and progress toward achieving goals of the program.

2. CDC Activities

a. Provide assistance in developing and conducting the Resident Postdoctoral Research Associates Program in Microbiology.

b. Provide descriptions of microbiological research and areas of investigation that are appropriate for potential associates.

c. Provide a list of potential CDC scientific advisers for associates.

d. Assist in review of potential research proposals and provide comments and/or suggested changes in the scope or method of the research.

e. Review publications and presentations resulting from research investigations conducted under the program.

f. Assist in the development of a plan for monitoring progress of the program and achieving program goals.

C. Application Content

Use the information in the Program Requirements, Other Requirements, and Evaluation Criteria sections to develop the application content. Your application will be evaluated on the criteria listed, so it is important to follow them in laying out your program plan. The narrative should be no more than 15 double-spaced pages, printed on one side, with one-inch margins, and unreduced font.

F. Submission and Deadline

Application

Submit the original and two copies of PHS 5161-1 (OMB Number 0937-0189). Forms are available at the following Internet address: www.cdc.gov/...Forms, or in the application kit. On or before June 1, 2001, submit the application to the Grants Management Specialist identified in the “Where to Obtain Additional Information” section of this announcement.

Deadline: Applications shall be considered as meeting the deadline if they are either:

(a) Received on or before the deadline date; or

(b) Sent on or before the deadline date and received in time for submission to the independent review group. (Applicants must request a legibly dated U.S. Postal Service postmark or obtain a legibly dated receipt from a commercial carrier or U.S. Postal Service. Private metered postmarks shall not be acceptable as proof of timely mailing).

Late Applications: Applications which do not meet the criteria in (a) or (b) above are considered late applications, will not be considered, and will be returned to the applicant.

G. Evaluation Criteria

Each application will be evaluated individually against the following criteria by an independent review group appointed by CDC.

1. Background (10 points):

The extent to which the applicant demonstrates a clear understanding of the background and objectives of this cooperative agreement program.

2. Capacity (55 points total):

a. The extent to which the applicant demonstrates that the organization has a significant history of promoting the science of microbiology as it relates to infectious diseases. The extent to which the applicant demonstrates it has the science of microbiology by conducting regular national meetings and workshops devoted to current topics. (10 points)

b. The extent to which the applicant demonstrates experience in microbiology education and training. The extent to which the applicant demonstrates experience in conducting postdoctoral programs similar to that proposed in this cooperative agreement announcement. (30 points)

c. The extent to which the applicant demonstrates it has adequate resources and facilities (e.g., administrative and financial management operations, office functions, etc). to conduct the proposed program. (5 points)

d. The extent to which applicant documents (e.g., by curriculum vitae), that all key personnel have adequate relevant experience to successfully develop and conduct the proposed program. (10 points)

3. Operational Plan (35 points total):

a. Extent to which applicant presents a detailed and time-phased operational plan for developing and conducting the program. The extent to which the plan clearly and appropriately addresses all Recipient Activities. The extent to which the applicant clearly identifies specific assigned responsibilities of all key professional personnel. The extent to which the applicant's plan appears feasible and likely to achieve program objectives. (15 points)

b. The extent to which the applicant clearly describes collaboration with CDC that utilizes CDC's unique expertise in public health infectious disease microbiology. (15 points)

c. The extent to which the applicant describes in detail a plan for evaluating progress of individual associates and for evaluating progress toward achieving overall program objectives. (5 points)

4. Budget: (No Score)

The extent to which the proposed budget is reasonable, clearly justifiable, and consistent with the intended use of cooperative agreement funds.

H. Other Requirements

Technical Reporting Requirements

Provide CDC with original plus two copies of

1. progress reports (annual);

2. financial status report, no more than 90 days after the end of the budget period; and

3. final financial and performance reports, no more than 90 days after the end of the project period.

Send all reports to the Grants Management Specialist identified in the “Where to Obtain Additional Information” section of this announcement.

The following additional requirements are applicable to this program. For a complete description of each, see Attachment I in the application kit.

AR-10 Smoke-Free Workplace Requirements

AR-11 Healthy People 2010

AR-12 Lobbying Restrictions

AR-15 Proof of Non-Profit Status

AR-16 Security Clearance Requirement

I. Authority and Catalog of Federal Domestic Assistance Number

This program is authorized under section 301 and 317(k) of the Public Health Service Act, (42 U.S.C. 241 and 247b(k)), as amended. The Catalog of Federal Domestic Assistance number is 93.283.

J. Where to Obtain Additional Information

This and other CDC announcements can be found on the CDC home page Internet address— http://www.cdc.gov. Click on “Funding” then “Grants and Cooperative Agreements.”

To receive additional written information and to request an application kit, call 1-888-GRANTS4 (1-888 472-6874). You will be asked to leave your name and address and will be instructed to identify the Announcement number of interest. If you have questions after reviewing the contents of all the documents, business management technical assistance may be obtained from: Merlin Williams, Grants Management Specialist, Grants Management Branch, Procurement and Grants Office, Centers for Disease Control and Prevention, Room 3000, 2920 Brandywine Road, Atlanta, GA 30341-4146, Telephone number (770) 488-2765, Email address: mqw6@cdc.gov.

For program technical assistance, contact: Janet Nicholson, Ph.D., National Center for Infectious Diseases, Centers for Disease Control and Prevention, 1600 Clifton Road, N.E., Atlanta, GA 30333, Telephone number: (404) 639-3945, Email address: jkn1@cdc.gov.

Dated: March 12, 2001.
John L. Williams,
Director, Procurement and Grants Office, Centers for Disease Control and Prevention (CDC).

[FR Doc. 01-6550 Filed 3-15-01; 8:45 am]

BILLING CODE 4163-18-P